OFFICE OF PERSONNEL MANAGEMENT

Submission for Review: OPM 1655, Application for Senior Administrative Law Judge, and OPM 1655-A, Geographic Preference Statement for Senior Administrative Law Judge Applicant

AGENCY: U.S. Office of Personnel Management.

ACTION: 60-Day Notice and request for comments.

SUMMARY: The Administrative Law Judge Program Office, Office of Personnel Management (OPM) offers the general public and other Federal agencies the opportunity to comment on an information collection request (ICR) 3206-0248, OPM 1655, Application for Senior Administrative Law Judge, and OPM 1655-A, Geographic Preference Statement for Senior Administrative Law Judge Applicant. OPM is soliciting comments for this collection under 44 U.S.C. 3506(c)(2) and 5 CFR 1320.8(d).

DATES: Comments are encouraged and will be accepted until September 30, 2014.

ADDRESSES: Interested persons are invited to submit written comments on the proposed information collection to the Administrative Law Judge Program Office, Office of Personnel Management, 1900 E Street NW., Washington, DC 20415, Attention: Juanita H. Love, ALJ Program Manager or sent via electronic mail to juanita.love@opm.gov.

FOR FURTHER INFORMATION CONTACT: A copy of this ICR, with applicable supporting documentation, may be obtained by contacting the Administrative Law Judge Program Office, Office of Personnel Management, 1900 E Street NW., Washington, DC 20415, Attention: Juanita H. Love, ALJ Program Manager or sent via electronic mail to juanita.love@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

OPM 1655, Application for Senior Administrative Law Judge, and OPM 1655-A, Geographic Preference Statement for Senior Administrative Law Judge Applicant, are used by retired Administrative Law Judges seeking reemployment on a temporary and intermittent basis to complete hearings of one or more specified case(s) in accordance with the Administrative Procedure Act of 1946. OPM proposes to revise the information collection to more clearly state, in the form instructions, the licensure requirement for appointment as an ALJ; to eliminate an obsolete reference to the OF 612, Optional Application for Federal Employment, which OPM canceled on June 13, 2011, see 76 FR 31998; to reference a full list of the Privacy Act routine uses applicable to this information collection; to update geographic locations; and to make technical changes to citations and terminology.

Analysis

Agency: Administrative Law Judge Program Office, Office of Personnel Management.

Title: OPM 1655, Application for Senior Administrative Law Judge, and OPM 1655-A, Geographic Preference Statement for Senior Administrative Law Judge Applicant.

OMB Number: 3206-0248.

Frequency: Annually.

Affected Public: Federal Administrative Law Judge Retirees.

Number of Respondents: Approximately 150—OPM 1655/Approximately 200—OPM 1655-A.

Estimated Time per Respondent: Approximately 30-45 Minutes—OPM 1655/Approximately 15-25 Minutes—OPM 1655-A.

Total Burden Hours: Estimated 94 hours—OPM 1655/Estimated 67 hours—OPM 1655-A.

U.S. Office of Personnel Management.
Katherine Archuleta,
Director.

[FR Doc. 2014-18187 Filed 7-31-14; 8:45 am]

BILLING CODE 6325-43-P